DEPARTMENT OF HOUSING AND URBAN DEVELOPMENT

[Docket No. FR-7050-N-70; OMB Control No. 2577-0275]

30-Day Notice of Proposed Information Collection: Public/Private Partnerships for the Mixed-Finance Development of Public Housing Units

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: February 8, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, REE, Department of Housing and Urban Development, 451 7th Street SW, Room 8210, Washington, DC 20410-5000; telephone 202-402-3400 (this is not a toll-free number). HUD welcomes and is prepared to receive calls from individuals who are deaf or hard of hearing, as well as individuals with speech and communication disabilities.

To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A. The Federal Register notice that solicited public comment on the information collection for a period of 60 days was published on July 28, 2022, at 87 FR 45352.

A. Overview of Information Collection

Title of Proposal: Public/Private Partnerships for the Mixed-Finance Development of Public Housing Units.

OMB Control Number: 2577-0275.

Type of Request: Reinstatement with change of a currently approved collection.

Form Number: HUD-50156, HUD-50157, HUD-50158, HUD-50159, HUD-50160, HUD-50161, HUD-52190. This PRA also includes two new forms: The Mixed Finance Amendment to the Annual Contributions Contact and the Mixed Finance Development Proposal for Faircloth to RAD Transactions.

Description of the need for the information and proposed use: The Quality Housing and Work Responsibility Act of 1998 (Pub. L. 195-276, approved October 21, 1998), also known as the Public Housing Reform Act, created Section 35 of the U.S. Housing Act of 1937, 42 U.S.C. 1437z-7.1437. Section 35 allows Public Housing Authorities (PHAs) to own, operate, assist, or otherwise participate in the development and operation of mixed-finance projects. Mixed-finance development refers to the development or rehabilitation of public housing, where the public housing units are owned in whole or in part by an entity other than a PHA. Prior to this, all public housing had to be developed and owned by a PHA. However, Section 35 allows PHAs to provide Section 9 Capital Funds and Operating Funds to mixed-finance projects, which are also financially assisted by private financing and other resources including tax credit equity, private mortgages and other federal, state, or local funds. Section 35 also allows non-PHA owner entities to own and operate mixed-finance projects that contain only public housing units or both public housing and non-public housing units. Mixed-finance real estate development or rehabilitation transactions also help to extend public housing appropriations for housing development and to support the development of mixed-income housing in which public housing residents are anonymously mixed in with affordable and market rate housing residents.

In order to approve the development of mixed-finance projects, HUD collects certain information from each PHA/Ownership Entity. Under current regulations, HUD collects and reviews the essential documents included in this Information Collection Request (ICR) in order to determine approval. After approval is given and the documents are recorded by the associated county, HUD collects the recorded versions of the documents in this ICR, along with financing and legal agreements that the PHA/owner entity has with HUD and with third-parties in connection with that mixed-finance project. This includes unique legal documents along with standardized forms and “Certifications and Assurances” which are not exempted under PRA.

The regulations that govern the processing of mixed-finance public housing projects are at 24 CFR part 905, subpart F. In accordance with these regulations, HUD collects information to ensure that the proposed mixed-finance development has sufficient funds to reach completion; will remain financially viable during its operating period; will follow HUD's legal and programmatic guidelines for housing project development or rehabilitation, ownership, and use restrictions; and will preserve HUD's rights to the project during its HUD-required affordability period. Information on HUD-prescribed forms and in HUD-prescribed contracts and agreements, along with other supplemental information called for in 24 CFR part 905, provides HUD with sufficient information to determine whether the project should be approved and whether funds should or should not be reserved or a contractual commitment made. Specifically, regulations at 24 CFR 905.606, “Development Proposal,” state that a Mixed-finance Development Proposal (Proposal) must be submitted to HUD to facilitate approval of the development of public housing. The subsection also lists the information that is required in the Proposal. The documentation required is submitted using the collection documents (ICs) in this ICR.

HUD's Mixed-finance Development Proposal, and associated documents, can also be used to facilitate the approval of non-public housing developments whose development and/or operations are supported with Section 9 funds. For instance, Choice Neighborhoods grantees must use the Mixed-Finance Development Proposal to obtain HUD approval of their proposed housing development projects, even if those projects do not include public housing units. Moving to Work (MTW) agencies can also use this form to secure HUD approval of local, non-traditional development projects; however, it is not mandatory for them to do so. The Proposal notes requirements that apply to Choice Neighborhoods grantees and MTW agencies specifically. A PHA that is refinancing an existing Mixed-Finance project can also use the Proposal to secure HUD approval.

This ICR was last updated in FY 2018. Since that time, minor updates have been made to the Proposal to clarify instructions for grantees. The HUD Declaration of Trust/Declaration of Restrictive Covenants (DOT/DORC), which was previously approved under a separate PRA, is also being included in this submission, along with the Mixed Finance Amendment to the Annual Consolidated Contract. HUD is also including a revised version of the Mixed Finance Development Proposal that can be used for Faircloth to RAD transactions and that includes specific requirements for those projects. The list of documents being requested in this ICR have also been updated to reflect current practices: A couple documents no longer collected as part of the Mixed Finance review process have been removed. This ICR also adds the Ground Lease, Memorandum of Ground Lease, Management Agreement, Management Plan and Sample Tenant Lease to the list of evidentiary documents collected via this ICR. These documents were previously grouped together in this ICR under the category of “Mixed Finance Evidentiary Documents.” However, now the documents are being listed individually to provide greater clarity. Finally, the number of respondents has been adjusted since the last time this ICR was updated to more accurately reflect the current number of annual submissions.

Members of affected public: Public Housing Agencies, Developers.

Estimation of the total number of hours needed to prepare the information collection including number of respondents, frequency of response, and hours of response:

Form/document | Number of respondents | Frequency | Total responses | Hours per response | Total hours | Cost per hour | Total cost
HUD-50156: Mixed-Finance Development Proposal Calculator | 40 | 1 | 40 | 4 | 160 | $50 | $8,000
HUD-50157: Mixed-Finance Development Proposal | 40 | 1 | 40 | 16 | 640 | 50 | 32,000
HUD-XXXXX: Mixed-Finance Development Proposal for Faircloth to RAD Transactions | 15 | 1 | 15 | 16 | 240 | 50 | 12,000
HUD-XXXXX: Mixed-Finance Amendment to the Annual Contributions Contract | 40 | 1 | 40 | 24 | 960 | 50 | 48,000
HUD-50158: Mixed-Finance Homeownership Certifications and Assurances | 10 | 1 | 10 | 0.25 | 3 | 50 | 125
HUD-50059: Mixed-Finance Homeownership Term Sheet | 10 | 1 | 10 | 16 | 160 | 50 | 8,000
HUD-50160: Mixed-Finance and Homeownership Pre-Funding Certifications and Assurances | 10 | 1 | 10 | 0.25 | 3 | 50 | 125
HUD-50161: Mixed-Finance Certifications and Assurances | 40 | 1 | 40 | 0.25 | 10 | 50 | 500
HUD 52190: Mixed-Finance Declaration of Restrictive Covenants | 40 | 1 | 40 | 0.25 | 10 | 250 | 2,500
UNIQUE LEGAL DOCUMENTS: Management Plan, Management Agreement and Sample Tenant Lease | 40 | 1 | 40 | 15 | 600 | 250 | 150,000
UNIQUE LEGAL DOCUMENT: Regulatory and Operating Agreement | 40 | 1 | 40 | 8 | 320 | 250 | 80,000
UNIQUE LEGAL DOCUMENTS: Ground Lease and Memorandum of Ground Lease | 40 | 1 | 40 | 24 | 960 | 250 | 240,000
UNIQUE LEGAL DOCUMENT: ATLA Survey | 40 | 1 | 40 | 12 | 480 | 50 | 24,000
UNIQUE LEGAL DOCUMENT: Mixed-Finance Legal Opinion | 40 | 1 | 40 | 1 | 40 | 250 | 10,000
UNIQUE LEGAL DOCUMENT: Mixed-Finance Final Title Policy | 40 | 1 | 40 | 16 | 640 | 250 | 160,000
UNIQUE LEGAL DOCUMENTS: Mixed-Finance Homeownership Addendum | 10 | 1 | 10 | 16 | 160 | 250 | 40,000
UNIQUE LEGAL DOCUMENT: Mixed-Finance Homeownership Declaration of Restrictive Covenants | 10 | 1 | 10 | 0.25 | 3 | 50 | 125
Totals | 505 |  | 505 | 169.25 | 5,388 |  | 815,375

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of Policy Development and Research, Chief Data Officer.

[FR Doc. 2023-00125 Filed 1-6-23; 8:45 am]

BILLING CODE 4210-67-P